DEPARTMENT OF COMMERCE

Foreign-Trade Zones Board

[Docket No. 4-2007]

Foreign-Trade Zone 121 - Albany, New York, Application for Subzone, MPM Silicones, LLC, (Silicone-Based Products and Intermediaries), Waterford, New York

An application has been submitted to the Foreign-Trade Zones Board (the Board) by the Capital District Regional Planning Commission, grantee of FTZ 121, requesting special-purpose subzone status for the manufacturing and warehousing facilities of MPM Silicones, LLC, an affiliate of Momentive Performance Materials, Inc. (Momentive), located in Waterford, New York. The application was submitted pursuant to the provisions of the Foreign-Trade Zones Act, as amended (19 U.S.C. 81a-81u), and the regulations of the Board (15 CFR part 400). It was formally filed on February 2, 2007.

The Momentive facility (1,000 employees, 581 acres) is located at 260 Hudson River Road, in Waterford, New York. The facility is used for the manufacturing and warehousing of methyl chloride, organo functional silanes, silicone fluids, plastics additives, anti-fog coating and primers, pressure sensitive adhesives, abrasion resistant coatings, adhesive sealants, architectural coatings, urethane foam additives, encapsulants, uncured silicone rubber, liquid injection molding components, paper release coatings, personal care silicone fluids and gels, textile coatings, flurosilicones and phenylsilicones. Components and materials sourced from abroad, representing some 25-35%% of all parts consumed in manufacturing, include: light oils; silicon; silicon dioxide; platinum; raw trichlorosilane; methyl chloride; raw trifluropropene; methanol; isopropyl alcohol; n-butyl alcohol; monomethyl ethers; ether-phenols; ether-alcohol-phenols; aromatic additives; acyclic monocarboxylic acids; oleic, linoleic and linolenic acids; cyclic monocarboxylic acids; polycarboxylic acids; carboxylic acids; inorganic acid esters; acyclic monoamines; amine function compounds; cyclanic, cyclenic, or cycloterpenic mono- or polyamines; aromatic polyamines; other organo-inorganic compounds; heterocyclic compounds; organic surface-active agents; lubricating preparations; waxes; glues; adhesives; activated carbon; insecticides; finishing agents; compound plasticizers; antioxidizing preparations; reaction initiators; additives for cements, mortars or concrete; binders for foundry molds or cores; polyethers; epoxide resins; polyurethanes; silicones; carboxymethylcellulose; articles of plastic; gaskets, washers and other seals; articles of precious metal; and, copper-zinc base alloys (duty rates range from duty-free to 7%%). The application indicates that any inputs subject to antidumping or countervailing duties, such as silicon, and inputs that fall under Chapter 32 of the HTSUS will be admitted to the subzone in privileged foreign (PF) status (19 CFR 146.41).

FTZ procedures would exempt Momentive from customs duty payments on the foreign components used in export production. Some 20 percent of the plant's shipments are exported. On its domestic sales, Momentive would be able to choose the duty rates during customs entry procedures that apply to the finished products (duty rates range from duty-free to 6.5%%) for the foreign inputs noted above (except for inputs in PF status). The request indicates that the savings from FTZ procedures would help improve the plant's international competitiveness.

In accordance with the Board's regulations, a member of the FTZ staff has been designated examiner to investigate the application and report to the Board.

Public comment is invited from interested parties. Submissions (original and 3 copies) shall be addressed to the Board's Executive Secretary at the address below. The closing period for their receipt is April 13, 2007. Rebuttal comments in response to material submitted during the foregoing period may be submitted during the subsequent 15-day period to April 30, 2007.

A copy of the application and accompanying exhibits will be available for public inspection at each of the following locations:

U.S. Department of Commerce Export Assistance Center, 707 Westchester Ave., Suite 209, White Plains, NY 10604.

Office of the Executive Secretary, Foreign-Trade Zones Board, U.S. Department of Commerce, Room 2814B, 1401 Constitution Ave. NW, Washington, DC 20230.

For further information, contact Elizabeth Whiteman at Elizabeth_Whiteman@ita.doc.gov or (202) 482-0473.

Dated: February 2, 2007.
Andrew McGilvray,
Executive Secretary.

[FR Doc. E7-2347 Filed 2-9-07; 8:45 am]

BILLING CODE 3510-DS-S